DEPARTMENT OF HOUSING AND URBAN DEVELOPMENT

[Docket No. FR-7027-N-23]

60-Day Notice of Proposed Information Collection: Rehabilitation Mortgage Insurance Underwriting Program Section 203(k); OMB Control No.: 2502-0527

AGENCY: Office of the Assistant Secretary for Housing- Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 31, 2020.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW, Room 4176, Washington, DC 20410-5000; email Colette Pollard at Colette.Pollard@hud.gov or telephone 202-402-3400 (this is not a toll-free number) . Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Rehabilitation Mortgage Insurance Underwriting Program Section 203(k).

OMB Approval Number: 2502-0527.

Type of Request: Extension.

Form Number: HUD-92700-A, HUD-9746-A.

Description of the need for the information and proposed use: This request for OMB review involves an extension request for information collected under OMB Approval Number 2502-0527 for lenders that originate and service Section 203(k) mortgages.

The Section 203(k) program requires mortgagees to collect information about the scope of repair and improvement work, its cost, and control of escrow funds to pay for the improvements as they are completed. This program operates in conjunction with FHA's underwriting standards and systems for all Section 203(b) loans as documented in OMB Control Numbers 2502-0059 & 2502-0556. Per the existing collection, there are 1,312 respondents made up of participating lenders and 203(k) Consultants.

Respondents (i.e., affected public): Business or other for-profit.

Estimated Number of Respondents: 1,312.

Estimated Number of Responses: 211,667.

Frequency of Response: On occasion (Once per loan).

Average Hours per Response: 0.85.

Total Estimated Burdens: 188,516.

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond, including through the use of appropriate automated collection techniques or other forms of information technology, e.g., permitting electronic submission of responses.

HUD encourages interested parties to submit comments in response to these questions.

C. Authority

Section 2 of the Paperwork Reduction Act of 1995, 44 U.S.C. 3507.

Dated: June 29, 2020.
Nacheshia Foxx,
Federal Liaison for the Department of Housing and Urban Development.

[FR Doc. 2020-14289 Filed 7-1-20; 8:45 am]

BILLING CODE 4210-67-P